DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of July 22, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Clayton County, Iowa and Incorporated Areas
Docket No.: FEMA-B-1910
City of Clayton | City Hall, 302 Main Street, Clayton, IA 52049.
City of Edgewood | City Hall, 203 West Union Street, Edgewood, IA 52042.
City of Elkader | City Hall, 207 North Main Street, Elkader, IA 52043.
City of Elkport | City Hall, 453 Linn Street, Elkport, IA 52044.
City of Farmersburg | City Hall, 208 South Main Street, Farmersburg, IA 52047.
City of Garber | City Hall, 604 Hill Street, Garber, IA 52048.
City of Garnavillo | City Hall, 104 North Main Street, Garnavillo, IA 52049.
City of Guttenberg | City Hall, 502 South 1st Street, Guttenberg, IA 52052.
City of Luana | City Hall, 304 Main Street, Luana, IA 52156.
City of Marquette | City Hall, 102 North Street, Marquette, IA 52158.
City of McGregor | City Hall, 416 Main Street, McGregor, IA 52157.
City of Monona | City Hall, 104 East Center Street, Monona, IA 52159.
City of North Buena Vista | City Hall, 502 Walnut Street, North Buena Vista, IA 52066.
City of Osterdock | Osterdock City Hall, 3181 Lynx Avenue, Colesburg, IA 52035.
City of St. Olaf | City Hall, 109 South Main Street, St. Olaf, IA 52072.
City of Strawberry Point | City Hall, 111 Commercial Street, Strawberry Point, IA 52076.
City of Volga | City Hall, 505 Washington Street, Volga, IA 52077.
Unincorporated Areas of Clayton County | Clayton County Courthouse, 111 High Street Northeast, Elkader, IA 52043.
Clinton County, Iowa and Incorporated Areas
Docket No.: FEMA-B-1911
City of Andover | Clinton County Satellite Offices, 226 11th Street, DeWitt, IA 52742.
City of Calamus | Clinton County Satellite Offices, 226 11th Street, DeWitt, IA 52742.
City of Camanche | City Hall, 818 7th Avenue, Camanche, IA 52730.
City of Charlotte | City Hall, 102 Charles Street, Charlotte, IA 52731.
City of Clinton | City Hall, 611 South 3rd Street, Clinton, IA 52732.
City of DeWitt | City Hall, 510 9th Street, DeWitt, IA 52742.
City of Goose Lake | City Hall, 1 School Lane, Goose Lake, IA 52750.
City of Grand Mound | City Hall, 615 Sunnyside Street, Grand Mound, IA 52751.
City of Lost Nation | City Hall, 410 Main Street, Lost Nation, IA 52254.
City of Low Moor | City Hall, 323 3rd Avenue, Low Moor, IA 52757.
City of Toronto | City Hall, 300 Mill Street, Toronto, IA 52777.
City of Welton | Clinton County Satellite Offices, 226 11th Street, DeWitt, IA 52742.
City of Wheatland | City Hall, 205 East Jefferson Street, Wheatland, IA 52777.
Unincorporated Areas of Clinton County | Clinton County Satellite Offices, 226 11th Street, DeWitt, IA 52742.
Lee County, Iowa and Incorporated Areas
Docket No.: FEMA-B-1910
City of Fort Madison | City Hall, 811 Avenue East, Fort Madison, IA 52627.
City of Houghton | City Hall, 406 2nd Street, Houghton, IA 52631.
City of Keokuk | City Hall, 415 Blondeau Street, Keokuk, IA 52632.
City of Montrose | City Hall, 102 South 2nd Street, Montrose, IA 52639.
Unincorporated Areas of Lee County | Keokuk City Hall, 415 Blondeau Street, Keokuk, IA 52632.
Bannock County, Idaho and Incorporated Areas
Docket No.: FEMA-B-1920
City of Pocatello | City Hall, 911 North 7th Avenue, Pocatello, ID 83201.
Unincorporated Areas of Bannock County | Bannock County Planning and Development, 5500 South 5th Avenue, Pocatello, ID 83204.
Plymouth County, Massachusetts (All Jurisdictions)
Docket No.: FEMA-B-1842
Town of Abington | Town Hall, 500 Gliniewicz Way, Abington, MA 02351.
Town of Carver | Town Hall, 108 Main Street, Carver, MA 02330.
Town of Duxbury | Town Hall, 878 Tremont Street, Duxbury, MA 02332.
Town of Halifax | Town Hall, 499 Plymouth Street, Halifax, MA 02338.
Town of Hanover | Town Hall, 550 Hanover Street, Hanover, MA 02339.
Town of Hanson | Town Hall, 542 Liberty Street, Hanson, MA 02341.
Town of Hingham | Town Hall, 210 Central Street, Hingham, MA 02043.
Town of Kingston | Town House, 26 Evergreen Street, Kingston, MA 02364.
Town of Marion | Town House, 2 Spring Street, Marion, MA 02738.
Town of Marshfield | Town Hall, 870 Moraine Street, Marshfield, MA 02050.
Town of Mattapoisett | Town Hall, 16 Main Street, Mattapoisett, MA 02739.
Town of Middleborough | Town Hall, 10 Nickerson Avenue, Middleborough, MA 02346.
Town of Norwell | Town Hall, 345 Main Street, Room 112, Norwell, MA 02061.
Town of Pembroke | Town Hall, 100 Center Street, Pembroke, MA 02359.
Town of Plymouth | Town Hall, 26 Court Street, Plymouth, MA 02360.
Town of Plympton | Town Hall, 5 Palmer Road, Plympton, MA 02367.
Town of Rochester | Town Hall, 1 Constitution Way, Rochester, MA 02770.
Town of Rockland | Town Hall, 242 Union Street, Rockland, MA 02370.
Town of Scituate | Town Hall, 600 Chief Justice Cushing Highway, Scituate, MA 02066.
Town of Wareham | Memorial Town Hall, 54 Marion Road, Wareham, MA 02571.
Canadian County, Oklahoma and Incorporated Areas
Docket No.: FEMA-B-1836
City of El Reno | Municipal Building, 101 North Choctaw Avenue, El Reno, Oklahoma 73036.
Adams County, Pennsylvania (All Jurisdictions)
Docket No.: FEMA-B-1856
Borough of Bonneauville | Bonneauville Borough Office, 46 East Hanover Street, Gettysburg, PA 17325.
Borough of Carroll Valley | Carroll Valley Office, 5685 Fairfield Road, Fairfield, PA 17320.
Borough of Fairfield | Borough Office, 108 West Main Street, Fairfield, PA 17320.
Borough of Gettysburg | Municipal Building, 59 East High Street, Gettysburg, PA 17325.
Borough of Littlestown | Borough Office Building, 41 South Columbus Avenue, Littlestown, PA 17340.
Township of Cumberland | Cumberland Township Municipal Building, 1370 Fairfield Road, Gettysburg, PA 17325.
Township of Franklin | Franklin Township Office, 55 Scott School Road, Orrtanna, PA 17353.
Township of Freedom | Freedom Township Office, 2184 Pumping Station Road, Fairfield, PA 17320.
Township of Germany | Germany Township Municipal Building, 136 Ulricktown Road, Littlestown, PA 17340.
Township of Hamiltonban | Hamiltonban Township Office, 23 Carrolls Tract Road, Fairfield, PA 17320.
Township of Highland | Highland Township Municipal Building, 3641 Fairfield Road, Gettysburg, PA 17325.
Township of Liberty | Liberty Township Municipal Office, 39 Topper Road, Fairfield, PA 17320.
Township of Mount Joy | Mount Joy Township Municipal Building, 902 Hoffman Home Road, Gettysburg, PA 17325.
Township of Mount Pleasant | Mount Pleasant Township Municipal Building, 1035 Beck Road, Gettysburg, PA 17325.
Township of Straban | Straban Township Municipal Building, 1745 Granite Station Road, Gettysburg, PA 17325.
Township of Union | Union Township Municipal Building, 255 Pine Grove Road, Hanover, PA 17331.
Louisa County, Virginia and Incorporated Areas
Docket No.: FEMA-B-1912
Town of Louisa | Town Hall, 212 Fredericksburg Avenue, Louisa, VA 23093.
Town of Mineral | Town Office, 312 Mineral Avenue, Mineral, VA 23117.
Unincorporated Areas of Louisa County | Louisa County Administration Building, 1 Woolfolk Avenue, Louisa, VA 23093.

[FR Doc. 2020-06409 Filed 3-26-20; 8:45 am]

BILLING CODE 9110-12-P